SMALL BUSINESS ADMINISTRATION

Bay Partners LS Fund, L.P., License No. 09/79-0423; Notice Seeking Exemption Under Section 312 of the Small Business Investment Act, Conflicts of Interest

Notice is hereby given that Bay Partners LS Fund, L.P., 10600 N. De Anza Boulevard, Suite 100, Cupertino, CA 95014, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Bay Partners LS Fund, L.P. proposes to provide equity/debt security financing to IPWireless, Inc. The financing is contemplated for operating expenses and for general corporate purposes.

The financing is brought within the purview of § 107.730(a)(1) of the Regulations because Bay Partners SBIC II, L.P., John Freidenrich, Neal Dempsey, Christopher Noble and Loring Knoblauch, all Associates of Bay Partners LS Fund, L.P., own more than ten percent of IPWireless, Inc.

Notice is hereby given that any interested person may submit written comments on the transaction to the Associate Administrator for Investment, U.S. Small Business Administration, 409 Third Street, SW., Washington, DC 20416.

Dated: January 12, 2005.
Jaime Guzman-Fournier,
Acting Associate Administrator for Investment.

[FR Doc. 05-1775 Filed 1-31-05; 8:45 am]

BILLING CODE 8025-01-P